DEPARTMENT OF HEALTH AND HUMAN SERVICES

National Institutes of Health

Center for Scientific Review; Amended Notice of Meeting

Notice is hereby given of a change in the meeting of the Clinical Neuroplasticity and Neurotransmitters Study Section, October 10, 2013, 08:00 a.m. to October 11, 2013, 05:00 p.m., Hilton Long Beach and Executive Center, 701 West Ocean Boulevard, Long Beach, CA 90831, which was published in the Federal Register on September 11, 2013, 78 FR 55753.

The meeting will start on December 2, 2013, 8:00 a.m. and end on December 3, 2013, 5:00 p.m. The meeting will be held at the Melrose Hotel, 2430 Pennsylvania Avenue, Washington, DC 20037. The meeting is closed to the public.

Dated: October 29, 2013.
Michelle Trout,
Program Analyst, Office of Federal Advisory Committee Policy.

[FR Doc. 2013-26168 Filed 11-1-13; 8:45 am]

BILLING CODE 4140-01-P